DEPARTMENT OF TRANSPORTATION

Pipeline and Hazardous Materials Safety Administration

[Docket No. PHMSA-2019-0223]

Pipeline Safety: Pipeline Research and Development Forum

AGENCY: Pipeline and Hazardous Materials Safety Administration (PHMSA), DOT.

ACTION: Notice of public forum.

SUMMARY: PHMSA is publishing this notice to announce a public meeting for the Pipeline Research and Development (R&D) Forum. PHMSA periodically holds this forum to generate a national research agenda that identifies technical challenges and fosters solutions to improve pipeline safety and protect the environment.

DATES: The forum will be held on February 19-20, 2020, from 8:00 a.m. to 4:30 p.m. ET. On-site registration will begin at 7:00 a.m. on both days. Online pre-registration for the forum is available until February 5, 2020. Individuals requiring accommodations, such as sign language interpretation or other ancillary aids, should notify Robert Smith, Engineering and Research Division, at 919-238-4759 or robert.w.smith@dot.gov by February 1, 2020. For additional information, see the ADDRESSES section of this notice.

ADDRESSES: The forum will be held at the Westin Arlington Gateway, 801 North Glebe Road, Arlington, Virginia 22203, USA, Phone: 703-717-6200, website: http://www.westinarlingtongateway.com. The agenda and any additional information for the forum will be published on the following meeting page at https://primis.phmsa.dot.gov/meetings/MtgHome.mtg?mtg=145.

Registration: To help ensure adequate space is provided, attendees should register in advance on the PHMSA public forum website at https://primis.phmsa.dot.gov/meetings/MtgHome.mtg?mtg=145. Onsite registration will also be available. Attendees are responsible for their own hotel accommodations. A block of hotel rooms is available on a first come, first served basis at the current government rate. Contact the hotel directly and mention “DOT R&D Forum” to receive the reserved hotel room rate.

The forum will not be webcast; however, presentations will be available on the forum website and in the public docket at https://www.regulations.gov/, under docket number PHMSA-2019-0223 within 30 days following the meeting.

Public Participation: The Pipeline R&D Forum will be open to the public. Attendees can participate during the question and answer portions of the agenda during the forum. The U.S. Department of Transportation is committed to providing equal access to this meeting for all participants. If you need alternative formats or services because of a disability, such as sign language, interpretation, or other ancillary aids, please contact the person listed in the FOR FURTHER INFORMATION CONTACT section.

Written comments: Persons who wish to submit written comments on the forum may submit them to the docket in the following ways:

E-Gov Website: https://www.regulations.gov. This website allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2019-0223 at the beginning of your comments. Note that all comments received will be posted without change to https://www.regulations.gov, including any personal information provided. Anyone can search the electronic form of all comments received into any of the dockets by the name of the individual submitting the comment (or signing the comment, if submitted on behalf of an association, business, labor union, etc.). Therefore, consider reviewing DOT's complete Privacy Act Statement in the Federal Register published on April 11, 2000, (65 FR 19477), or view the Privacy Notice at https://www.regulations.gov before submitting comments.

Docket: For docket access or to read background documents or comments, go to https://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2019-0223.” The docket clerk will date stamp the postcard prior to returning it to you via the U.S. Mail.

FOR FURTHER INFORMATION CONTACT: Robert Smith, Office of Pipeline Safety, Engineering and Research Division, Pipeline and Hazardous Materials Safety Administration, U.S. Department of Transportation, at 919-238-4759 or robert.w.smith@dot.gov.

SUPPLEMENTARY INFORMATION:

Privacy Act Statement

In accordance with 5 U.S.C. 553(c), DOT solicits comments from the public regarding certain general notices. DOT posts these comments, without edit, including any personal information the commenter provides, to www.regulations.gov, as described in the system of records notice (DOT/ALL-14 FDMS), which can be reviewed at www.dot.gov/privacy.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the Freedom of Information Act, and they will not be placed in the public docket of this notice. Submissions containing CBI should be sent to Robert Smith at DOT, PHMSA, PHP-80, 1200 New Jersey Avenue SE, Washington, DC 20590-0001. Any commentary PHMSA receives that is not specifically designated as CBI will be placed in the public docket for this matter.

The Pipeline R&D Forum allows the public, government, and industry pipeline stakeholders to develop recommendations on the technical gaps and challenges for future pipeline safety research. It also reduces duplication of research programs, shares ongoing research efforts, leverages resources, and broadens synergies. The national research agenda that will be developed through this forum will help PHMSA align its research program with the needs of its pipeline safety mission and make use of the best available knowledge and expertise, as well as consider stakeholder perspectives. The Pipeline R&D Forum will also provide an opportunity to discuss the potential need for establishing an integrated safety research, development, and testing facility at the Transportation Technology Center located in Pueblo, Colorado. This would create a world-class national pipeline safety research facility used to accelerate innovation and bring new safety technologies to market more quickly than is currently possible.

Issued in Washington, DC, on January 24, 2020, under authority delegated in 49 CFR 1.97.
Drue Pearce,
Deputy Administrator.

[FR Doc. 2020-01631 Filed 1-29-20; 8:45 am]

BILLING CODE 4910-60-P